DEPARTMENT OF ENERGY

Federal Energy Regulatory Commission

[Project No. 14355-000]

John B. Crockett; Notice of Preliminary Permit Application Accepted for Filingand Soliciting Comments, Motions to Intervene, and Competing Applications

On January 20, 2012, John B. Crockett filed an application for a preliminary permit, pursuant to section 4(f) of the Federal Power Act (FPA), proposing to study the feasibility of the East Fork Ditch Hydroelectric Project (East Fork Ditch project) to be located on East Fork Ditch in the vicinity of Council, in Adams County, Idaho. The sole purpose of a preliminary permit, if issued, is to grant the permit holder priority to file a license application during the permit term. A preliminary permit does not authorize the permit holder to perform any land-disturbing activities or otherwise enter upon lands or waters owned by others without the owners' express permission.

The proposed project will consist of the following: (1) A concrete intake structure on the East Fork Ditch with a trash rack and steel stand pipe; (2) 11,150-foot-long, 24-inch-diameter penstock from the East Fork Ditch intake structure; (3) a 28-foot by 32-foot concrete powerhouse containing one turbine/generator unit with a capacity of 1.35 megawatts; (4) an approximately 1,900-foot-long, 69-kV transmission line which will tie into an undetermined interconnection; and (5) appurtenant facilities. The estimated annual generation of the East Fork Ditch project would be 4.0 gigawatt-hours.

Applicant Contact: John B. Crockett, 3296 Snowflake Way, Boise, ID 83706; phone: (208) 344-5319.

FERC Contact: Ryan Hansen (202) 502-8074 or ryan.hansen@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14355-000) in the docket number field to access the document. For assistance, contact FERC Online Support.

Dated: February 8, 2012.
Kimberly D. Bose,
Secretary.

[FR Doc. 2012-3401 Filed 2-13-12; 8:45 am]

BILLING CODE 6717-01-P